ENVIRONMENTAL PROTECTION AGENCY

[FRL-9127-01-OMS]

Privacy Act of 1974; System of Records

AGENCY: Office of Mission Support (OMS), Environmental Protection Agency (EPA).

ACTION: Notice of a modified system of records.

SUMMARY: The U.S. Environmental Protection Agency's (EPA), Office of Mission Support (OMS) is giving notice that it proposes to modify a system of records pursuant to the provisions of the Privacy Act of 1974. The Federal Retirement Benefits Calculator is being modified to update the categories of records in the system, collect leave data and change the name of the system to Federal Human Resource Navigator (FedHR Navigator). The purpose of the FedHR Navigator system is to integrate employees benefits and retirement information into one central database. The application allows EPA employees to access personnel and benefits related information that will be used by EPA employees to calculate their retirement benefits. All exemptions and provisions included in the previously published Federal Retirement Benefits Calculator system of record notice will transfer to the modified system of record notice for FedHR Navigator.

DATES: Persons wishing to comment on this system of records notice must do so by December 27, 2021. New routine uses for this modified system of records will be effective December 27, 2021.

ADDRESSES: Submit your comments, identified by Docket ID No. EPA-HQ-OEI-2006-0014, by one of the following methods:

Federal eRulemaking Portal: https://www.regulations.gov. Follow the online instructions for submitting comments.

Email: docket_oms@epa.gov. Include the Docket ID number in the subject line of the message.

Fax: 202-566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OEI-2006-0014. The EPA's policy is that all comments received will be included in the public docket without change and may be made available online at https://www.regulations.gov, including any personal information provided, unless the comment includes information claimed to be Controlled Unclassified Information (CUI) or other information for which disclosure is restricted by statute. Do not submit information that you consider to be CUI or otherwise protected through https://www.regulations.gov. The https://www.regulations.gov website is an “anonymous access” system for the EPA, which means the EPA will not know your identity or contact information. If you submit an electronic comment, the EPA recommends that you include your name and other contact information in the body of your comment. If the EPA cannot read your comment due to technical difficulties and cannot contact you for clarification, the EPA may not be able to consider your comment. If you send an email comment directly to the EPA without going through https://www.regulations.gov, your email address will be automatically captured and included as part of the comment that is placed in the public docket and made available on the internet. Electronic files should avoid the use of special characters, any form of encryption, and be free of any defects or viruses. For additional information about the EPA public docket, visit the EPA Docket Center homepage at https://www.epa.gov/dockets.

Docket: All documents in the docket are listed in the https://www.regulations.govindex. Although listed in the index, some information is not publicly available, e.g., CUI or other information for which disclosure is restricted by statute. Certain other material, such as copyrighted material, will be publicly available only in hard copy. Publicly available docket materials are available either electronically in https://www.regulations.gov or in hard copy at the OMS Docket, EPA/DC, WJC West Building, Room 3334, 1301 Constitution Ave. NW, Washington, DC 20460. The Public Reading Room is normally open from 8:30 a.m. to 4:30 p.m., Monday through Friday excluding legal holidays. The telephone number for the Public Reading Room is (202) 566-1744, and the telephone number for the OMS Docket is (202) 566-1752.

Temporary Hours During COVID-19

Out of an abundance of caution for members of the public and our staff, the EPA Docket Center and Reading Room are closed to the public, with limited exceptions, to reduce the risk of transmitting COVID-19. Our Docket Center staff will continue to provide remote customerservice via email, phone, and webform. We encourage the public to submit comments via https://www.regulations.gov/ or email, as there may be a delay in processing mail and faxes. Hand deliveries and couriers may be received by scheduled appointment only. For further information on EPA Docket Center services and the current status, please visit us online at https://www.epa.gov/dockets.

FOR FURTHER INFORMATION CONTACT: Linda Datcher, Diversity, Outreach and Employee Services (DOES) Division Director, 1301 Constitution Ave. NW, Washington, DC 20004, datcher.linda@epa.gov, 202-564-2101; Ryan Atkinson, Division Director, 109 TW Alexander Dr., Research Triangle Park, NC 27711, atkinson.ryan@epa.gov, 919-541-2425.

SUPPLEMENTARY INFORMATION: The FedHR Navigator application is being expanded to incorporate various types of leave data. We are updating the categories of records. The information in the system includes voluntary, early, and disability retirement benefits; part-time and intermittent service; deposits and re-deposits owed; Social Security/Federal Employee Retirement System (FERS) supplement benefits; Civil Service Retirement System benefits; Thrift Savings Plan benefits; survivor benefits; and severance pay.

SYSTEM NAME AND NUMBER:

Federal Human Resource Navigator, EPA-55.

SECURITY CLASSIFICATION:

Unclassified.

SYSTEM LOCATION:

EPA Headquarters: 1200 Pennsylvania Avenue NW, Washington, DC 20460; Economic Systems Inc., 3141 Fairview Park Dr., Suite 700, Falls Church, Virginia 22042-4507.

SYSTEM MANAGER(S):

Kendal Holt, System Administrator, 1200 Pennsylvania Avenue NW, Washington, DC 20460, holt.kendal@epa.gov, 513-569-7796; Alice Martinson, System Administrator, 109 TW Alexander Dr., Research Triangle Park N.C. 27711, martinson.alice@epa.gov, 919-541-5420.

AUTHORITY FOR MAINTENANCE OF THE SYSTEM:

5 U.S.C. Chapter 53, Pay Rates and Systems; 5 U.S.C. 5101 et seq.; 5 U.S.C. 3323; 5 U.S.C. 8301; 5 U.S.C. 5525 et seq.; 5 U.S.C. 6301 et seq.; Executive Order 9397 (Nov. 22, 1943); The American Rescue Plan Act of 2021 (Pub. L. 117-2, H.R. 1319).

PURPOSE(S) OF THE SYSTEM:

The purpose of the FedHR Navigator system is to integrate employees benefits and retirement information into one central database. The application allows EPA employees to access personnel and benefits-related information that will be used by EPA employees to calculate their retirement benefits. The information in the system includes voluntary, early, and disability retirement benefits; part-time and intermittent service; deposits and re-deposits owed; Social Security/Federal Employee Retirement System (FERS) supplement benefits; Civil Service Retirement System benefits; Thrift Savings Plan benefits; survivor benefits; and severance pay.

CATEGORIES OF INDIVIDUALS COVERED BY SYSTEM:

Current and former employees of the Environmental Protection Agency (EPA). Because FedHR Navigator contains records related to benefits, individuals including an employee's spouse, former spouse, dependents, parents, or other family members are also covered by the system.

CATEGORIES OF RECORDS IN THE SYSTEM:

Full name (last, first, middle), Social Security Number, Date of Birth, Home Address, Work Address, Service Computation Date, Number of hours worked, Citizenship, Telephone Numbers, Email Addresses, Salary History, Position Titles, Series, Grade, Life and Health Insurance information, Military Service, Financial Institution Account and Routing Numbers for direct deposit, Marriage Certificate, Date of Marriage, Death Certificate/Benefits, Date of Death, Birth Certificate, Beneficiaries, Worker's Comp Claim Number, Signature of Witness, TSP Account Number, Estate/Trust/Tax ID, Financial Institution (Name, Address, Phone, Email), Medical Diagnosis, Healthcare Provider, Medical Prognosis, Divorce Decree, Custody Agreement, Date of Marriage, Date of Death, Social Security Statements and Medicare CMS-L564.

RECORD SOURCE CATEGORIES: Information in this system of records is obtained from:

1. Department of Interior: Federal Personnel Processing System (FPPS).

2. Oracle Business Intelligence Enterprise Edition (OBIEE).

3. The employee and family members about whom the record is maintained.

ROUTINE USES OF RECORDS MAINTAINED IN THE SYSTEM, INCLUDING CATEGORIES OF USERS AND PURPOSES OF SUCH USES:

The routine uses below are both related to and compatible with the original purpose for which the information was collected.

1. To the Department of Treasury to issue checks, make payments, make electronic funds transfers, and issue U.S. Savings Bonds.

2. To the Department of Agriculture National Finance Center to credit Thrift Savings Plan deductions and loan payments to employee accounts.

3. To the Department of Labor in connection with a claim filed by an employee for compensation due to a job connected injury or illness.

4. To the Internal Revenue Service; Social Security Administration; and State and local tax authorities in connection with the withholding of employment taxes.

5. To State Unemployment Offices in connection with a claim filed by former employees for unemployment benefits.

6. To the Office of Personnel Management and to Health Benefit carriers in connection with enrollment and payroll deductions.

7. To the Office of Personnel Management in connection with employee retirement, thrift savings plan, flexible spending account, military service and life insurance deductions.

8. To the Combined Federal Campaign in connection with payroll deductions for charitable contributions.

9. To the Office of Management and Budget and Department of the Treasury to provide required reports on financial management responsibilities.

10. To the Internal Revenue Service in connection with withholdings for tax levies.

11. To the Office of Personnel Management in connection with employee leave enrollment and leave deductions.

The following general routine uses apply to this system (73 FR 2245):

B. Disclosure Incident to Requesting Information: Information may be disclosed to any source from which additional information is requested (to the extent necessary to identify the individual, inform the source of the purpose of the request, and to identify the type of information requested,) when necessary to obtain information relevant to an agency decision concerning retention of an employee or other personnel action (other than hiring,) retention of a security clearance, the letting of a contract, or the issuance or retention of a grant, or other benefit.

C. Disclosure to Requesting Agency: Disclosure may be made to a Federal, State, local, foreign, or tribal or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative, personnel, or regulatory action.

D. Disclosure to Office of Management and Budget: Information may be disclosed to the Office of Management and Budget at any stage in the legislative coordination and clearance process in connection with private relief legislation as set forth in OMB Circular No. A-19.

G. Disclosure to the National Archives: Information may be disclosed to the National Archives and Records Administration in records management inspections.

H. Disclosure to Contractors, Grantees, and Others: Information may be disclosed to contractors, grantees, consultants, or volunteers performing or working on a contract, service, grant, cooperative agreement, job, or other activity for the Agency and who have a need to have access to the information in the performance of their duties or activities for the Agency. When appropriate, recipients will be required to comply with the requirements of the Privacy Act of 1974 as provided in 5 U.S.C. 552a(m).

I. Disclosures for Administrative Claims, Complaints and Appeals: Information from this system of records may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

J. Disclosure to the Office of Personnel Management: Information from this system of records may be disclosed to the Office of Personnel Management pursuant to that agency's responsibility for evaluation and oversight of Federal personnel management.

K. Disclosure in Connection with Litigation: Information from this system of records may be disclosed in connection with litigation or settlement discussions regarding claims by or against the Agency, including public filing with a court, to the extent that disclosure of the information is relevant and necessary to the litigation or discussions and except where court orders are otherwise required under section (b)(11) of the Privacy Act of 1974, 5 U.S.C. 552a(b)(11).

The two routine uses below (L and M) are required by OMB Memorandum M-17-12.

L. Disclosure to Persons or Entities in Response to an Actual or Suspected Breach of Personally Identifiable Information: To appropriate agencies, entities, and persons when (1) the Agency suspects or has confirmed that there has been a breach of the system of records, (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

M. Disclosure to Assist Another Agency in Its Efforts to Respond to a Breach of Personally Identifiable Information: To another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Records are stored in electronic media at Economic Systems Inc., 3141 Fairview Park Dr., Suite 700, Falls Church, Virginia 22042-4507.

POLICIES AND PRACTICES FOR RETRIEVAL OF RECORDS:

Personnel information will be retrieved by employee name, email address, employee ID number, or date of birth.

POLICIES AND PRACTICES FOR RETENTION AND DISPOSAL OF RECORDS:

The retention of data in the system will be in accordance with any applicable EPA Records Schedule, as approved by the National Archives and Records Administration.

ADMINISTRATIVE, TECHNICAL, AND PHYSICAL SAFEGUARDS:

Security controls used to protect personnel sensitive data in FedHR Navigator are commensurate with those required for an information system rated moderate for confidentiality, integrity, and availability, as prescribed in NIST Special Publication, 800-53, “Security and Privacy Controls for Information Systems and Organizations,” Revision 5.

1. Administrative Safeguards: HR Specialists will be the only authorized personnel with access to PII data and must ensure they receive IT Security Training to use the system.

2. Technical Safeguards: Electronic records are maintained in a secure password-protected computer system and are accessible only by authorized personnel. Individual users will gain access to the system using a combination of two-factor authentication using PIV/CAC card or user ID and password.

3. Physical Safeguards: Network servers are in a locked room with physical access limited to only authorized personnel such as IT personnel.

RECORD ACCESS PROCEDURES:

Individuals requesting access will be required to provide adequate identification, such as a driver's license, employee identification badge, or other identifying document. Requests must meet the requirements of EPA regulations that implement the Privacy Act of 1974, at 40 CFR part 16.

CONTESTING RECORDS PROCEDURES:

Individuals wishing to contest or amend information maintained in this system should specify the information being contested, the reason for contesting it, and the proposed amendment to such information. Complete EPA Privacy Act procedures are described in EPA's Privacy Act regulations at 40 CFR part 16.

NOTIFICATION PROCEDURE:

Individuals who wish to be informed whether a Privacy Act system of records maintained by EPA contains any record pertaining to them, should make a written request to the EPA, Attn: Agency Privacy Officer, MC 2831T, 1200 Pennsylvania Ave. NW, Washington, DC 20460, privacy@epa.gov.

EXEMPTIONS PROMULGATED FOR THE SYSTEM:

None.

HISTORY:

Notice of a New System of Records [Federal Register Vol 71, No. 40 (March 1, 2006)].

Vaughn Noga,
Senior Agency Official for Privacy.

[FR Doc. 2021-25783 Filed 11-24-21; 8:45 am]

BILLING CODE 6560-50-P